DEPARTMENT OF EDUCATION

Recognition of Accrediting Agencies, State Agencies for the Approval of Public Postsecondary Vocational Education, and State Agencies for the Approval of Nurse Education

AGENCY: National Advisory Committee on Institutional Quality and Integrity, Department of Education (The Advisory Committee).

What Is the Purpose of This Notice?

The purpose of this notice is to invite written comments on accrediting agencies and State approval agencies whose applications to the Secretary for initial or renewed recognition or whose interim reports will be reviewed at the Advisory Committee meeting to be held on December 13-15, 2004.

Where Should I Submit My Comments?

Please submit your written comments by August 30, 2004 to Ms. Carol Griffiths, Accreditation and State Liaison. You may contact her at the U.S. Department of Education, room 7105, MS 8509, 1990 K Street, NW., Washington, DC 20006, telephone: (202) 219-7011. Individuals who use a telecommunications device for the deaf (TDD) may call the Federal Information Relay Service at 1-800-877-8339.

What Is the Authority for the Advisory Committee?

The National Advisory Committee on Institutional Quality and Integrity is established under Section 114 of the Higher Education Act (HEA), as amended, 20 U.S.C. 1011c. One of the purposes of the Advisory Committee is to advise the Secretary of Education on the recognition of accrediting agencies and State approval agencies.

Will This Be My Only Opportunity To Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comment.

What Happens to the Comments That I Submit?

We will review your comments, in response to this notice, as part of our evaluation of the agencies' compliance with the Secretary's Criteria for Recognition of Accrediting Agencies and State Approval Agencies. The Criteria are regulations found in 34 CFR Part 602 (for accrediting agencies) and in 34 CFR Part 603 (for State approval agencies) and are found at the following site: http://www.ed.gov/admins/finaid/accred.

We will also include your comments with the staff analyses we present to the Advisory Committee at its December 2004 meeting. Therefore, in order for us to give full consideration to your comments, it is important that we receive them by August 30, 2004. In all instances, your comments about agencies seeking initial or continued recognition must relate to the Criteria for Recognition. In addition, your comments for any agency whose interim report is scheduled for review must relate to the issues raised and the Criteria for Recognition cited in the Secretary's letter that requested the interim report.

What Happens to Comments Received After the Deadline?

We will review any comments received after the deadline. If such comments, upon investigation, reveal that the accrediting agency is not acting in accordance with the Criteria for Recognition, we will take action either before or after the meeting, as appropriate.

What Agencies Will the Advisory Committee Review at the Meeting?

The Secretary of Education recognizes accrediting agencies and State approval agencies for public postsecondary vocational education and nurse education if the Secretary determines that they meet the Criteria for Recognition. Recognition means that the Secretary considers the agency to be a reliable authority as to the quality of education offered by institutions or programs it accredits that are encompassed within the scope of recognition he grants to the agency.

Please note that the agencies listed below, which were originally scheduled for review during the National Advisory Committee's June 2004 meeting, were deferred and will be reviewed at the December 2004 meeting.

• Accrediting Bureau of Health Education Schools

• American Academy for Liberal Education

• American Speech-Language-Hearing Association, Council on Academic Accreditation in Audiology and Speech-Language Pathology

• National Association of Schools of Art and Design, Commission on Accreditation

• National Association of Schools of Dance, Commission on Accreditation

• National Association of Schools of Music, Commission on Accreditation, Commission on Non-Degree-Granting Accreditation, Commission on Community/Junior College Accreditation

• National Association of Schools of Theatre, Commission on Accreditation

• New England Association of Schools and Colleges, Commission on Institutions of Higher Education

• New England Association of Schools and Colleges, Commission on Technical and Career Institutions

• Puerto Rico State Agency for the Approval of Public Postsecondary Vocational, Technical Institutions and Programs

Any third-party written comments regarding these agencies that were received by March 22, 2004, in accordance with the Federal Register notice published on February 5, 2004, will become part of the official record. Those comments will be considered by the National Advisory Committee when it reviews the agencies at the December 2004 meeting.

The following agencies will be reviewed during the December 2004 meeting of the Advisory Committee:

Nationally Recognized Accrediting Agencies

Petitions for Renewal of Recognition

1. Accrediting Bureau of Health Education Schools (Current scope of recognition: The accreditation of private, postsecondary allied health education institutions and institutions that offer predominantly allied health programs, private medical assistant programs, and public and private medical laboratory technician programs leading to the Associate of Applied Science and the Associate of Occupational Science degrees.) (Requested scope of recognition: The accreditation of private, postsecondary institutions in the United States offering predominantly allied health education programs and the programmatic accreditation of allied health programs, leading to a certificate, diploma, or the Associate of Applied Science and Associate of Occupational Science degrees, including those offered via distance education.)

2. Accrediting Commission of Career Schools and Colleges of Technology (Current scope of recognition: The accreditation of private, postsecondary, non-degree-granting institutions and degree-granting institutions, including those granting associate and baccalaureate degrees, that are predominantly organized to educate students for occupational, trade and technical careers, and including institutions that offer programs via distance education.) (Requested scope of recognition: The accreditation of private, postsecondary, non-degree-granting institutions and degree-granting institutions in the United States, including those granting associate and baccalaureate degrees, that are predominantly organized to educate students for occupational, trade and technical careers, and including institutions that offer programs via distance education.)

3. American Psychological Association, Committee on Accreditation (Current and requested scope of recognition: The accreditation of doctoral programs in clinical, counseling, school and combined professional-scientific psychology; predoctoral internship programs in professional psychology; and postdoctoral residency programs in professional psychology.)

4. National Accrediting Commission of Cosmetology Arts and Sciences (Current scope of recognition: The accreditation of postsecondary schools and departments of cosmetology arts and sciences and massage therapy.) (Requested scope of recognition: The accreditation of postsecondary schools and departments of cosmetology arts and sciences and massage therapy in the United States.)

5. Transnational Association of Christian Colleges and Schools, Accreditation Commission (Current scope of recognition: The accreditation and preaccreditation (“Candidate” status) of postsecondary institutions that offer certificates, diplomas, and associate, baccalaureate, and graduate degrees, including institutions that offer distance education.) (Requested scope of recognition: The accreditation and preaccreditation (“Candidate” status) of postsecondary institutions in the United States that offer certificates, diplomas, and associate, baccalaureate, and graduate degrees, including institutions that offer distance education.)

6. Western Association of Schools and Colleges, Accrediting Commission for Schools (Current and requested scope of recognition: the accreditation and preaccreditation (“Candidate for Accreditation”) of adult and postsecondary schools that offer programs below the degree level in California, Hawaii, the United States territories of Guam and American Samoa, the Republic of Palau, the Federated States of Micronesia, the Commonwealth of the Northern Mariana Islands, and the Republic of the Marshall Islands.)

Interim Reports (An interim report is a follow-up report on an accrediting agency's compliance with specific criteria for recognition that was requested by the Secretary when the Secretary granted renewed recognition to the agency.)

1. American Academy for Liberal Education

2. American Speech-Language-Hearing Association, Council on Academic Accreditation in Audiology and Speech-Language Pathology

3. Commission on English Language Program Accreditation

4. Montessori Accreditation Council for Teacher Education, Commission on Accreditation

5. National Association of Schools of Art and Design, Commission on Accreditation

6. National Association of Schools of Dance, Commission on Accreditation

7. National Association of Schools of Music, Commission on Accreditation, Commission on Non-Degree-Granting Accreditation, Commission on Community/Junior College Accreditation

8. National Association of Schools of Theatre, Commission on Accreditation

9. New England Association of Schools and Colleges, Commission on Institutions of Higher Education

10. New England Association of Schools and Colleges, Commission on Technical and Career Institutions

11. Teacher Education Accreditation Council, Accreditation Committee

Progress Report: A report on the agency's experience with its new method and system to assess its institutions' success with respect to student achievement.

1. Distance Education and Training Council, Accrediting Commission

State Agencies Recognized for the Approval of Public Postsecondary Vocational Education

Petitions for Renewal of Recognition

1. Oklahoma State Regents for Higher Education

2. Puerto Rico State Agency for the Approval of Public Postsecondary Vocational, Technical Institutions and Programs

Interim Report

1. Missouri State Board of Education

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. National Defense University, Joint Forces Staff College, Joint Advanced Warfighting School, Norfolk, VA (request to award a Master's in Science (M.S.) degree in Joint Campaign Planning and Strategy)

Where Can I Inspect Petitions and Third-Party Comments Before and After the Meeting?

All petitions and those third-party comments received in advance of the meeting, will be available for public inspection and copying at the U.S. Department of Education, room 7105, MS 8509, 1990 K Street, NW., Washington, DC 20006, telephone (202) 219-7011 between the hours of 8 a.m. and 3 p.m., Monday through Friday, until November 17, 2004. They will be available again after the December 13-15 Advisory Committee meeting. An appointment must be made in advance of such inspection or copying.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gpo/nara/index.html.

Authority: 5 U.S.C. Appendix 2.

Dated: July 12, 2004.
Sally L. Stroup,
Assistant Secretary for Postsecondary Education.

[FR Doc. 04-16144 Filed 7-15-04; 8:45 am]

BILLING CODE 4000-01-P